FEDERAL ENERGY REGULATORY COMMISSION

Combined Notice Of Filings #1

December 11, 2006.

Take notice that the Commission received the following electric corporate filings:

Docket Numbers: EC07-33-000.

Applicants: Madison Gas and Electric Company; MGE Energy, Inc.; MGE Power LLC; MGE Power Elm Road LLC.

Description: Madison Gas and Electric Company, et al., submit an Application for approval of Intra-Company transfer of Jurisdictional Facilities under Section 203 of the Federal Power Act.

Filed Date: 12/07/2006.

Accession Number: 20061211-0002.

Comment Date: 5 p.m. Eastern Time on Thursday, December 28, 2006.

Take notice that the Commission received the following electric rate filings:

Docket Numbers: ER97-837-006; ER99-3151-007.

Applicants: PSEG Energy Resources & Trade LLC; Public Service Electric and Gas Company.

Description: PSEG Energy Resources & Trade LLC and Public Service Electric and Gas Co submit an erratum to their joint triennial market power report.

Filed Date: 12/06/2006.

Accession Number: 20061207-0178.

Comment Date: 5 p.m. Eastern Time on Wednesday, December 27, 2006.

Docket Numbers: ER04-135-002.

Applicants: Eurus Combine Hills 1 LLC.

Description: Eurus Combine Hills 1 LLC submits its Triennial Market Power Analysis, pursuant to FERC's 12/4/03 Order.

Filed Date: 12/07/2006.

Accession Number: 20061211-0152.

Comment Date: 5 p.m. Eastern Time on Thursday, December 28, 2006.

Docket Numbers: ER06-1458-003.

Applicants: Louisville Gas and Electric Company; Kentucky Utilities Company.

Description: E.ON US, LLC on behalf of Louisville Gas and Electric Co et al. submits a revised unexecuted Service Agreement for Network Integration Transmission Service.

Filed Date: 12/07/2006.

Accession Number: 20061211-0153.

Comment Date: 5 p.m. Eastern Time on Thursday, December 28, 2006.

Docket Numbers: ER07-42-001.

Applicants: Atlantic Path 15, LLC.

Description: Atlantic Path 15, LLC submits revisions to its 10/6/06 filing.

Filed Date: 12/06/2006.

Accession Number: 20061208-0195.

Comment Date: 5 p.m. Eastern Time on Wednesday, December 27, 2006.

Docket Numbers: ER07-48-001.

Applicants: Verde Renewable Energy, Inc.

Description: Verde Renewable Energy, Inc. submits supplemental testimony.

Filed Date: 12/05/2006.

Accession Number: 20061205-5002.

Comment Date: 5 p.m. Eastern Time on Tuesday, December 26, 2006.

Docket Numbers: ER07-129-001.

Applicants: Atlantic Path 15, LLC.

Description: Atlantic Path 15, LLC submits its answer to comments and protests of its 10/31/06 filing.

Filed Date: 12/06/2006.

Accession Number: 20061206-5046.

Comment Date: 5 p.m. Eastern Time on Wednesday, December 27, 2006.

Docket Numbers: ER07-139-001.

Applicants: Oklahoma Gas and Electric Company.

Description: Oklahoma Gas and Electric Co submits a supplement to its 11/1/06 filing and a clean version of its First Revised Rate Schedule 147.

Filed Date: 12/05/2006.

Accession Number: 20061207-0012.

Comment Date: 5 p.m. Eastern Time on Tuesday, December 26, 2006.

Docket Numbers: ER07-146-001.

Applicants: Wabash Valley Power Association, Inc.

Description: Wabash Valley Power Association, Inc. submits a supplemental affidavit and verification of Kari Dude Wetter.

Filed Date: 12/01/2006.

Accession Number: 20061205-0004.

Comment Date: 5 p.m. Eastern Time on Friday, December 22, 2006.

Docket Numbers: ER07-262-001.

Applicants: Central Vermont Public Service Corporation.

Description: Central Vermont Public Service Corp submits Page 2 to its 11/30/06 filing of Transmission and Interconnection Service Agreement that was inadvertently omitted.

Filed Date: 12/04/2006.

Accession Number: 20061211-0155.

Comment Date: 5 p.m. Eastern Time on Tuesday, December 26, 2006.

Docket Numbers: ER07-292-000.

Applicants: Rockingham Power, L.L.C.

Description: Rockingham Power, LLC submits a notice of cancellation of its FERC Electric Tariff, Original Volume 1.

Filed Date: 12/05/2006.

Accession Number: 20061207-0013.

Comment Date: 5 p.m. Eastern Time on Tuesday, December 26, 2006.

Docket Numbers: ER07-293-000.

Applicants: PJM Interconnection, L.L.C.

Description: PJM Interconnection LLC submits proposed revisions to its Open Access Transmission Tariff.

Filed Date: 12/05/2006.

Accession Number: 20061207-0011.

Comment Date: 5 p.m. Eastern Time on Tuesday, December 26, 2006.

Docket Numbers: ER07-294-000.

Applicants: PJM Interconnection, L.L.C.

Description: PJM Interconnection, LLC submits revisions to the PJM Open Access Transmission Tariff, FERC Electric Tariff, Sixth Revised Volume 1.

Filed Date: 12/05/2006.

Accession Number: 20061207-0010.

Comment Date: 5 p.m. Eastern Time on Tuesday, December 26, 2006.

Docket Numbers: ER07-295-000.

Applicants: PJM Interconnection, L.L.C.

Description: PJM Interconnection LLC submits amendments to Schedule 12 of the Amended and Restated Operating Agreement to update the PJM Member List to include new members etc.

Filed Date: 12/05/2006.

Accession Number: 20061207-0009.

Comment Date: 5 p.m. Eastern Time on Tuesday, December 26, 2006.

Docket Numbers: ER07-296-000.

Applicants: Sierra Pacific Resources Operating Companies.

Description: Sierra Pacific Resources Operating Companies submits revisions to the FERC Electric Tariff Third Revised Volume 1 Open Access Transmission Tariff.

Filed Date: 12/06/2006.

Accession Number: 20061208-0194.

Comment Date: 5 p.m. Eastern Time on Wednesday, December 27, 2006.

Docket Numbers: ER07-297-000.

Applicants: American Electric Power Service Corporation.

Description: AEP Texas North Company submits revisions to the 8/2/05 generation interconnection agreement with FPL Energy Horse Hollow Wind, LP.

Filed Date: 12/07/2006.

Accession Number: 20061211-0159.

Comment Date: 5 p.m. Eastern Time on Thursday, December 28, 2006.

Docket Numbers: ER07-298-000.

Applicants: Pacific Gas and Electric Company.

Description: Pacific Gas and Company submits a notice of cancellation of FERC Rate Schedule 208, 211 and 226.

Filed Date: 12/07/2006.

Accession Number: 20061211-0158.

Comment Date: 5 p.m. Eastern Time on Thursday, December 28, 2006.

Docket Numbers: ER07-299-000.

Applicants: Pacific Gas and Electric Company.

Description: Pacific Gas and Electric Co submits two executed agreements, Interim Dual Fuel Agreement and Interim Black Start Agreement with California Independent System Operator Corp.

Filed Date: 12/07/2006.

Accession Number: 20061211-0157.

Comment Date: 5 p.m. Eastern Time on Thursday, December 28, 2006.

Docket Numbers: ER07-300-000.

Applicants: Central Connecticut Energy, LLC.

Description: Central Connecticut Energy, LLC submits a petition for acceptance of Initial Rate Schedule, Waivers and Blanket Authority designated as Rate Schedule FERC 1.

Filed Date: 12/07/2006.

Accession Number: 20061211-0156.

Comment Date: 5 p.m. Eastern Time on Thursday, December 28, 2006.

Docket Numbers: ER07-301-000.

Applicants: Wildorado Wind, LLC.

Description: Wildorado Wind, LLC submits a petition for order accepting market-based rate schedule for filing and granting waivers and blanket approvals.

Filed Date: 12/07/2006.

Accession Number: 20061211-0160.

Comment Date: 5 p.m. Eastern Time on Thursday, December 28, 2006.

Docket Numbers: ER07-302-000.

Applicants: CAM Energy LLC.

Description: CAM Energy, LLC submits a Notice of Cancellation of Market Based Rate Tariff of FERC Electric Rate Schedule 1, effective 12/31/06.

Filed Date: 12/07/2006.

Accession Number: 20061211-0161.

Comment Date: 5 p.m. Eastern Time on Thursday, December 28, 2006.

Docket Numbers: ER07-303-000.

Applicants: LMP Capital, LLC.

Description: LMP Capital, LLC submits notice of cancellation of market-based rate tariff, Second Revised FERC Rate Schedule 1 etc, effective 12/31/06.

Filed Date: 12/07/2006.

Accession Number: 20061211-0162.

Comment Date: 5 p.m. Eastern Time on Thursday, December 28, 2006.

Docket Numbers: ER07-304-000.

Applicants: Southwest Power Pool, Inc.

Description: Southwest Power Pool submits an executed service agreement for Network Integration Transmission Service and an executed Network Operating Agreement with Oklahoma Gas and Electric Company.

Filed Date: 12/07/2006.

Accession Number: 20061211-0163.

Comment Date: 5 p.m. Eastern Time on Thursday, December 28, 2006.

Docket Numbers: ER07-305-000.

Applicants: Wabash Valley Power Association, Inc.

Description: Wabash Valley Power Association, Inc submits Amendments to its FERC Electric Tariff, Original Volume 1.

Filed Date: 12/07/2006.

Accession Number: 20061211-0165.

Comment Date: 5 p.m. Eastern Time on Thursday, December 28, 2006.

Take notice that the Commission received the following electric securities filings:

Docket Numbers: ES07-9-000.

Applicants: MidAmerican Energy Company.

Description: MidAmerican Energy Co submits an application to issue promissory notes and other evidence of unsecured short-term indebtednesss, from time to time, in aggregate principal amount of up to $800 million.

Filed Date: 11/29/2006.

Accession Number: 20061211-0164.

Comment Date: 5 p.m. Eastern Time on Wednesday, December 20, 2006.

Docket Numbers: ES07-10-000.

Applicants: Kansas City Power & Light Company.

Description: Kansas City Power & Light Co submits an application for authorization, under section 204(A) to issue short-term debt in connection with The Great Plains Energy Money Pool.

Filed Date: 12/07/2006

Accession Number: 20061207-5054.

Comment Date: 5 p.m. Eastern Time on Thursday, December 28, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE, Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-21430 Filed 12-15-06; 8:45 am]

BILLING CODE 6717-01-P